DEPARTMENT OF COMMERCE

National Oceanic and Atmospheric Administration

[RTID 0648-XA875]

Western Pacific Fishery Management Council; Public Meetings

AGENCY: National Marine Fisheries Service (NMFS), National Oceanic and Atmospheric Administration (NOAA), Commerce.

ACTION: Notice of a public meeting.

SUMMARY: The Western Pacific Fishery Management Council (Council) will hold a meeting of the Pacific Pelagic Fishery Ecosystem Plan (FEP) Plan Team (PT) to discuss fishery management issues and develop recommendations to the Council for future management of pelagic fisheries in the Western Pacific region.

DATES: The Pelagic PT will be held on March 3-4, 2021. For specific times and agendas, see SUPPLEMENTARY INFORMATION.

ADDRESSES: The meeting will be held by web conference. Audio and visual portions of the web conference can be accessed at: https://wprfmc.webex.com/wprfmc/onstage/g.php?MTID=e53c7bdfe796d5380156b9f81841ef272. Event number (if prompted): 177 544 7443. Event password (if prompted): PePT2021. Web conference access information will also be posted on the Council's website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The Pelagic PT meeting will be held on March 3-4, 2021, and run each day from 1 p.m. to 5 p.m. Hawaii Standard Time (HST) (12 p.m. to 4 p.m. Samoa Standard Time (SST); 9 a.m. to 1 p.m. on March 4-5, 2021, Chamorro Standard Time (ChST)). Public comment periods will be provided in the agenda. The order in which agenda items are addressed may change. The meetings will run as late as necessary to complete scheduled business.

Agenda for the Pelagic Plan Team Meeting

Wednesday, March 3, 2021, 1 p.m. to 5 p.m. HST (12 p.m. to 4 p.m. SST; Thursday, March 4, 2021, 9 a.m. to 1 p.m. ChST)

1. Welcome and Introductions

2. Approval of Agenda

3. Oceanic Whitetip Working Group Report

A. Monte Carlo Analyses of Longline Mitigation Measures

B. Working Group Report and Options Document to Address MSA 304(i) Obligations

4. Regulatory Amendment for Removal of Wire Leaders in Hawaii Deep-set Longline Fishery

5. Plan Team Discussion

6. Public Comment

Thursday, March 4, 2021, 1 p.m. to 5 p.m. HST (12 p.m. to 4 p.m. SST; Friday, March 5, 2021, 9 a.m. to 1 p.m. ChST)

7. Seabird Mitigation Measures for the Hawaii Longline Fisheries: Options for the Shallow-set Fishery and Tori Line Specifications for the Deep-set Fishery

8. North Pacific Striped Marlin Annual Catch Limits

9. Public Comment

10. Pelagic Plan Team Discussion and Recommendations

11. Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 11, 2021.
Tracey L. Thompson,
Acting Deputy Director, Office of Sustainable Fisheries, National Marine Fisheries Service.

[FR Doc. 2021-03193 Filed 2-16-21; 8:45 am]

BILLING CODE 3510-22-P